ENVIRONMENTAL PROTECTION AGENCY

[ER-FRL-8588-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 6, 2008 (73 FR 19833).

FINAL EISs

EIS No. 20080296, ERP No. F-FHW-G40180-TX, Grand Parkway (State Highway 99) Selected the Preferred Alternative Alignment, Segment F-2 from SH 249 to IH 45, Right-of-Way Permit and U.S. Army COE Section 404 Permit, Harris County, TX.

Summary: EPA does not object to the proposed project.

EIS No. 20080318, ERP No. F-BLM-J65475-WY, Pinedale Resource Management Plan, Implementation, of Public Lands Administered, Pinedale Field Office, Sublette and Lincoln Counties, WY.

Summary: No formal comment letter was sent to the preparing agency.

EIS No. 20080449, ERP No. F-AFS-K65329-CA, Sugarberry Project, Proposes to Protect Rural Communities from Fire Hazards by Constructing Fuel Breaks Known as Defensible Fuel Profile Zones (DFPZs), Feather River Ranger District, Plumas National Forest, Plumas, Sierra, Yuba Counties, CA.

Summary: EPA commends the decommissioning of 11.5 miles of roads, watershed improvement projects, and aspen and black oak restoration. However, EPA continues to have environmental concerns about the cumulative effects of regional Defensible Fuel Profile Zones and fuel management actions given past extraction and road construction activities and proposed soil-disturbing activities on adjacent private lands. EPA recommended concurrent road decommissioning and restoration actions, and other measures to ensure timely watershed improvements.

EIS No. 20080450, ERP No. F-NOA-E91023-00, Amendment 16 to the Fishery Management Plan for the Snapper Grouper Fishery, Address Overfishing, Bycatch, Management Reference Points, and Allocations for Snapper Grouper Species, Implementation, South Atlantic Region.

Summary: EPA does not object to the proposed action.

EIS No. 20080453, ERP No. F-FTA-C54010-00, Access to the Region's Core Project, Additional Information on the Build Alternative, To Increase Trans-Hudson Commuter Rail Capacity, Improve System Safety and Reliability between Secaucus Junction Station in NJ and midtown Manhattan, Funding, Hudson County, NJ and New York County NY.

Summary: EPA does not object to the proposed project.

EIS No. 20080399, ERP No. FS-FTA-K54022-CA, Central Subway/Third Street Light Rail Phase 2, Funding, San Francisco Municipal Transportation Agency, in the City and County San Francisco, CA.

Summary: EPA does not object to the proposed project.

EIS No. 20080511, ERP No. FS-USN-K11094-00, Developing Home Port Facilities for Three NIMITZ-Class Aircraft Carriers in Support of the U.S. Pacific Fleet, New Circumstances and Information to Supplements (the 1999 FEIS) Coronado, CA.

Summary: No formal comment letter was sent to the preparing agency.

Dated: December 16, 2008.
Robert W. Hargrove,
Director, NEPA Compliance Division, Office of Federal Activities.

[FR Doc. E8-30210 Filed 12-18-08; 8:45 am]

BILLING CODE 6560-50-P